DEPARTMENT OF HEALTH AND HUMAN SERVICES

National Institutes of Health

National Heart, Lung, and Blood Institute; Amended Notice of Meeting

Notice is hereby given of a change in the meeting of the National Heart, Lung, and Blood Advisory Council, October 26, 2021, 10:00 a.m. to October 26, 2021, 05:00 p.m., National Institutes of Health, Rockledge II, 6701 Rockledge Drive, Bethesda, MD, 20892 which was published in the Federal Register on September 23, 2021, 2021-20584.

Change Open Session to 11:00 a.m. to 5:00 p.m. The meeting is open to the public.

Dated: October 13, 2021.
David W. Freeman,
Program Analyst, Office of Federal Advisory Committee Policy.

[FR Doc. 2021-22717 Filed 10-18-21; 8:45 am]

BILLING CODE 4140-01-P